DEPARTMENT OF VETERANS AFFAIRS

[OMB Control No. 2900-0091]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before June 4, 2007.

ADDRESSES: Submit written comments on the collection of information through www.Regulations.gov; or to VA's OMB Desk Officer, OMB Human Resources and Housing Branch, New Executive Office Building, Room 10235, Washington, DC 20503 (202) 395-7316. Please refer to “OMB Control No. 2900-0091” in any correspondence.

FOR FURTHER INFORMATION CONTACT: Denise McLamb, Records Management Service (005G2), Department of Veterans Affairs, 810 Vermont Avenue, NW., Washington, DC 20420, (202) 565-8374, fax (202) 565-7870 or e-mail denise.mclamb@mail.va.gov. Please refer to “OMB Control No. 2900-0091.”

SUPPLEMENTARY INFORMATION: Titles:

a. Application for Health Benefits, VA Form 10-10EZ.

b. Health Benefits Renewal Form, VA Form 10-10EZR

OMB Control Number: 2900-0091.

Type of Review: Extension of a currently approved collection.

Abstract:

a. Veterans complete VA Form 10-10EZ to enroll in VA health care system. VA will use the information collected to determine the veteran's eligibility for medical benefits.

b. Veterans currently enrolled in VA health care system complete VA Form 10-10EZR to update their personal information such as martial status, address, health insurance and financial information.

An agency may not conduct or sponsor, and a person is not required to respond to a collection of information unless it displays a currently valid OMB control number. The Federal Register Notice with a 60-day comment period soliciting comments on this collection of information was published on January 24, 2007 at page 3196.

Affected Public: Individuals or households.

Estimated Annual Burden: 1,008,180 hours.

a. VA Form 10-10EZ—527,580 hours.

b. VA Form 10-10EZR—480,600.

Estimated Average Burden Per Respondent:

a. VA Form 10-10EZ—45 minutes.

b. VA Form 10-10EZR—24 minutes.

Frequency of Response: Annually.

Estimated Number of Respondents: 1,904,940

a. VA Form 10-10EZ—703,440.

b. VA Form 10-10EZR—1,201,500.

Dated: April 19, 2007.
By direction of the Secretary.
Denise McLamb,
Program Analyst, Records Management Service.

[FR Doc. E7-8400 Filed 5-2-07; 8:45 am]

BILLING CODE 8320-01-P